DEPARTMENT OF AGRICULTURE

Animal and Plant Health Inspection Service

9 CFR Part 94

[Docket No. 02-046-3]

RIN 0579-AB79

Importation of Swine and Swine Products from the European Union; Correction

Correction

In rule document E6-8465 beginning on page 31069 in the issue of Thursday, June 1, 2006, make the following corrections:

§ 94.9 [Corrected]

1. On page 31069, in the third column, in § 94.9(a), in the last line, footnote indicator “¹ ” should read “¹⁰”.

2. On the same page, in the same column, in the same section, at the bottom of the page, in the footnote, footnote indicator “¹” should read “¹⁰”.

[FR Doc. Z6-8465 Filed 11-22-06; 8:45 am]

BILLING CODE 1505-01-D